DEPARTMENT OF COMMERCE

National Oceanic and Atmospheric Administration

[RTID 0648-XD186]

International Affairs; Northwest Atlantic Fisheries Organization Consultative Committee Meeting

AGENCY: National Marine Fisheries Service (NMFS), National Oceanic and Atmospheric Administration (NOAA), Commerce.

ACTION: Notice of public meeting.

SUMMARY: NMFS announces a public meeting of the Northwest Atlantic Fisheries Organization Consultative Committee. This meeting will help to ensure that the interests of U.S. stakeholders in the fisheries of the Northwest Atlantic Ocean are adequately represented at the Annual Meeting of the Organization. Northwest Atlantic Fisheries Organization Consultative Committee members and all other interested U.S. stakeholders are invited to attend.

DATES: The meeting will be held August 16, 2023, from 1:30 p.m. to 3 p.m. EST.

ADDRESSES: The meeting will be held at National Marine Fisheries Service's Greater Atlantic Regional Fisheries Office, 55 Great Republic Drive, Gloucester, MA 01930. Please notify Shannah Jaburek (see FOR FURTHER INFORMATION CONTACT) by August 16, 2023, if you plan to attend the meeting in person or remotely. The meeting will be accessible by webinar—instructions will be emailed to meeting participants who provide notice.

FOR FURTHER INFORMATION CONTACT: Shannah Jaburek, Shannah.jaburek@noaa.gov, (978) 282-8456.

SUPPLEMENTARY INFORMATION: The Northwest Atlantic Fisheries Organization (NAFO) is a regional fisheries management organization that coordinates scientific study and cooperative management of the fisheries resources of the Northwest Atlantic Ocean, excluding salmon, tunas/marlins, whales and sedentary species. NAFO was established in 1979 by the Convention on Future Multilateral Cooperation in the Northwest Atlantic Fisheries. The United States acceded to the Convention in 1995, and has participated actively in NAFO since that time. In 2005, NAFO launched a reform effort to amend the Convention in order to bring the Organization more in line with the principles of modern fisheries management. As a result of these efforts, the Amendment to the Convention on Future Multilateral Cooperation in the Northwest Atlantic Fisheries entered into force in May 2017.

NAFO currently has 13 Contracting Parties, including Canada, Cuba, Denmark (in respect of Faroe Islands and Greenland), European Union, France (in respect of St. Pierre and Miquelon), Iceland, Japan, Norway, Republic of Korea, Russian Federation, Ukraine, the United Kingdom, and the United States.

16 U.S.C. 5607 provides that the Secretaries of Commerce and State shall jointly establish a NAFO Consultative Committee (NCC) to advise the Secretaries on issues related to the NAFO Convention. Membership in the NCC is open to representatives from the New England and Mid-Atlantic Fishery Management Councils, the States represented on those Councils, the Atlantic States Marine Fisheries Commission, the fishing industry, the seafood processing industry, and others knowledgeable and experienced in the conservation and management of fisheries in the Northwest Atlantic Ocean. NMFS, and the U.S. government more generally, are committed to advancing diversity, equity, inclusion, and accessibility at all levels, including within the communities we serve and protect. Consistent with this commitment, NMFS is taking steps aimed at increasing the diversity of stakeholder voices that represent the United States in our international fisheries engagements, including by promoting greater diversity and representation of underserved communities in the pool of potential candidates for appointment as NCC members. Through this notice, NMFS is also taking steps to advance a transparent process that promotes equity, inclusion, and accessibility when seeking nominees to serve in these important roles. As such, NMFS encourages nominations for women and for individuals from underserved communities that meet the knowledge, experience, and other legal requirements of the positions described in this notice. See Executive Order (E.O.) 13985 (Advancing Racial Equity and Support for Underserved Communities Through the Federal Government) § 2 (defining “underserved communities” as “populations sharing a particular characteristic, as well as geographic communities, that have been systematically denied a full opportunity to participate in aspects of economic, social, and civic life,” “such as Black, Latino, and Indigenous and Native American persons, Asian Americans and Pacific Islanders and other persons of color; members of religious minorities; lesbian, gay, bisexual, transgender, and queer (LGBTQ+) persons; persons with disabilities; persons who live in rural areas; and persons otherwise adversely affected by persistent poverty or inequality.”). E.O. 13985 is available at https://www.federalregister.gov/documents/2021/01/25/2021-01753/advancing-racial-equity-and-support-for-underserved-communities-through-the-federal-government.

Members shall be appointed to a 2-year term and are eligible for reappointment. The NCC is exempted from the Federal Advisory Committee Act. NCC members are invited to attend all non-executive meetings of the U.S. Commissioners and at such meetings, and unless information at those meetings is otherwise protected, NCC members are given an opportunity to examine and to be heard on all proposed programs of study and investigation, reports, recommendations, and regulations of issues relating NAFO fisheries. In addition, NCC members may attend all public meetings of the NAFO Commission and any other meetings to which they are invited.

If you are interested in becoming a member of the NCC, please contact Shannah Jaburek (see FOR FURTHER INFORMATION CONTACT) for additional details. The NAFO Annual Meeting will be held September 22-28, 2023, in Vigo, Spain. Additional information about the meeting can be found at: https://www.nafo.int/Meetings/AM.

Special Accommodations

The meeting location is physically accessible to people with disabilities.

Dated: July 20, 2023.
Alexa Cole,
Director, NOAA Fisheries Office of International, Affairs, Trade, and Commerce.

[FR Doc. 2023-15756 Filed 7-25-23; 8:45 am]

BILLING CODE 3510-22-P